DEPARTMENT OF ENERGY

Federal Energy Regulatory Commission

[Project No. 5124-022]

Washington Electric Cooperative, Inc.; Notice of Meeting

a. Project Name and Number: North Branch No. 3 Hydroelectric Project No. 5124-022.

b. Applicant: Washington Electric Cooperative, Inc. (WEC).

c. Date and Time of Meeting: May 20, 2022 from 10:00 a.m. to 11:00 a.m. EST.

d. FERC Contact: Michael Tust, (202) 502-6522, michael.tust@ferc.gov.

e. Purpose of Meeting: Commission staff will hold a teleconference with staff from WEC and the Vermont State Historic Preservation Office to discuss the Draft Programmatic Agreement and a schedule for finalizing and signing a Final Programmatic Agreement.

f. All local, state, and federal agencies, Native American tribes, and other interested parties are invited to attend the meeting. Please call or email Michael Tust at (202) 502-6522 or michael.tust@ferc.gov by May 18, 2022 at 4:30 p.m. EST, to RSVP and to receive specific instructions on how to participate.

Dated: May 4, 2022.
Kimberly D. Bose,
Secretary.

[FR Doc. 2022-09997 Filed 5-9-22; 8:45 am]

BILLING CODE 6717-01-P